DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (301) 443-7978.

Identifying Best Practice Models of Mental Health and Substance Abuse Services for Homeless Adolescents, Runaway, and Throwaway Youth—New—This is a project of SAMHSA's Center for Mental Health Services (CMHS). The first stage of this study will involve the compilation of a directory of agencies providing services to homeless, runaway and throwaway youth across the nation. The directory will be developed using published information and information on the internet about agencies providing services to these youth. This information will be summarized and will be e-mailed/mailed to the agency with a request that they complete or correct information as appropriate. The agency will be asked to e-mail/mail back their completed/revised form; as necessary, agencies will be telephoned to complete or correct information.

From this universe of service providers, a probability sample of approximately 52 providers will be selected to receive a site visit. During the site visit, information will be collected from the facility director or a designee about the staff (e.g., number and training), characteristics of the target service population, and services provided. In addition, at each site a sample of approximately 20 youth (age 12-21 years of age who are homeless, runaway, or thrownaway) will be selected for interview. A site designee will be asked to be present during the administration of the youth informed consents. The results of this study will provide CMHS, policy makers, and service providers with a better understanding of the health problems and needs of youth, the availability of services to the youth, their service utilization, and practices associated with positive engagement and response to treatment.

Total response burden for this project is summarized in the following table.

Form name | No. of respondents | Responses /respondent | Hours/ response | Total response burden (hours)
Directory*:
Near complete | 336 | 1 | 0.25 | 84
Partial complete | 59 | 1 | 0.33 | 19
Incomplete | 105 | 1 | 0.50 | 53
Health/Police Department Calls:
Certainty PSUs | 102 | 1 | 0.25 | 26
Non-Certainty PSUs | 108 | 1 | 0.25 | 27
Provider Survey | 52 | 1 | 1.00 | 52
Youth Survey | 950 | 1 | 0.75 | 713
Total | 1,660 |  |  | 974
* Burden will vary according to the extent of information about the program that is available from Web sites or other publicly available information.

Written comments and recommendations concerning the proposed information collection should be sent within 30 days of this notice to: Lauren Wittenberg, Human Resources and Housing Branch, Office of Management and Budget, New Executive Office Building, Room 10235, Washington, DC 20503; due to potential delays in OMB's receipt and processing of mail sent through the U.S. Postal Service, respondents are encouraged to submit comments by fax to: 202-395-6974.

Dated: September 10, 2003.
Anna Marsh,
Acting Executive Officer, SAMHSA.

[FR Doc. 03-23675 Filed 9-16-03; 8:45 am]

BILLING CODE 4162-20-P